DEPARTMENT OF COMMERCE

International Trade Administration

[A-489-844]

Certain Aluminum Foil From the Republic of Türkiye: Preliminary Results and Rescission, in Part, of Antidumping Duty Administrative Review; 2022-2023

AGENCY: Enforcement and Compliance, International Trade Administration, Department of Commerce.

SUMMARY: The U.S. Department of Commerce (Commerce) preliminarily finds that certain producers/exporters subject to this administrative review made sales of subject merchandise at less than normal value (NV) during the period of review (POR) November 1, 2022, through October 31, 2023. Additionally, Commerce is rescinding the review, in part, with respect to two companies. Interested parties are invited to comment on these preliminary results.

DATES: Applicable December 13, 2024.

FOR FURTHER INFORMATION CONTACT: Christopher Williams or Bryan Hansen, AD/CVD Operations, Office I, Enforcement and Compliance, International Trade Administration, U.S. Department of Commerce, 1401 Constitution Avenue NW, Washington, DC 20230; telephone: (202) 482-5166 or (202) 482-3683, respectively.

SUPPLEMENTARY INFORMATION:

Background

On November 12, 2021, Commerce published in the Federal Register the antidumping duty order on certain aluminum foil (aluminum foil) from the Republic of Türkiye (Türkiye).¹ On November 2, 2023, we published in the Federal Register a notice of opportunity to request an administrative review of the Order for the POR.² On December 29, 2023, based on timely requests for an administrative review, Commerce initiated an administrative review of the Order with respect to six companies.³ On January 26, 2023, Commerce selected the Assan Single Entity ⁴ and ASAS Aluminyum Sanayi Ve Ticaret (ASAS) as the mandatory respondents in this administrative review.⁵ On March 28, 2024, the Aluminum Association Trade Enforcement Working Group (the petitioners) and ASAS withdrew their review requests for ASAS.⁶ On April 8, 2024, Commerce selected Panda Aluminyum A.S. (Panda) as a replacement mandatory respondent in this administrative review.⁷

¹ See Certain Aluminum Foil from the Republic of Armenia, Brazil, the Sultanate of Oman, the Russian Federation, and the Republic of Türkiye: Antidumping Duty Orders, 86 FR 62790 (November 12, 2021) (Order).

² See Antidumping or Countervailing Duty Order, Finding, or Suspended Investigation; Opportunity To Request Administrative Review and Join Annual Inquiry Service List, 88 FR 75270 (November 2, 2023).

³ See Initiation of Antidumping and Countervailing Duty Administrative Reviews, 88 FR 90168, 90172 (December 29, 2023) (Initiation Notice). Three of these six companies comprise a single entity. See footnote 4, infra.

⁴ Commerce previously determined that Assan Aluminyum Sanayi ve Ticaret A.S., Kibar Dis Ticaret A.S., and Ispak Esnek Ambalaj Sanayi A.S., comprise the Assan Single Entity. See Certain Aluminum Foil from the Republic of Türkiye: Final Affirmative Determination of Sales at Less Than Fair Value, 86 FR 52880 n.10 (September 23, 2021); see also Initiation Notice, 88 FR 51 (“Commerce will not conduct collapsing analyses at the respondent selection phase of this review and will not collapse companies at the respondent selection phase unless there has been a determination to collapse certain companies in a previous segment of this {antidumping duty} proceeding (e.g., investigation, administrative review, new shipper review, or changed circumstances review).”).

⁵ See Memorandum, “Respondent Selection,” dated January 30, 2024.

⁶ See ASAS' Letter, “Withdrawal of Request for Administrative Review;” and the Petitioners Letter, “Petitioners' Partial Withdrawal of Request for Review,” both dated March 28, 2024 (collectively, the ASAS Withdrawal Letters).

⁷ See Memorandum, “Selection of a Replacement Mandatory Respondent,” dated April 8, 2024.

On July 11, 2024, Commerce extended the time limit for these preliminary results to November 29, 2024.⁸ On July 22, 2024, Commerce tolled certain deadlines in this administrative proceeding by seven days. The deadline for the preliminary results is now December 6, 2024.⁹ For a complete description of the events following the initiation of the administrative review, see the Preliminary Decision Memorandum.¹⁰

⁸ See Memorandum, “Extension of Deadline for Preliminary Results of Antidumping Duty Administrative Review; 2022-2023,” dated July 11, 2024.

⁹ See Memorandum, “Tolling of Deadlines for Antidumping and Countervailing Duty Proceedings,” dated July 22, 2024.

¹⁰ See Memorandum, “Decision Memorandum for the Preliminary Results of Antidumping Duty Administrative Review; 2022-2023,” dated concurrently with, and hereby adopted by, this notice (Preliminary Decision Memorandum).

Scope of the Order

The merchandise covered by the Order is aluminum foil from Türkiye. For a complete description of the scope of this Order, see the Preliminary Decision Memorandum.

Rescission of Administrative Review, in Part

Pursuant to 19 CFR 351.213(d)(1), Commerce will rescind an administrative review, in whole or in part, if the parties that requested the review withdraw their review requests within 90 days of the date of publication of the notice of initiation for the requested review.¹¹ On March 28, 2024, the petitioners and ASAS withdrew their review requests for ASAS within the 90-day deadline.¹² No other parties requested an administrative review of ASAS.

¹¹ See Initiation Notice, 88 FR 90169.

¹² See the ASAS Withdrawal Letters.

Also, pursuant to 19 CFR 351.213(d)(3), it is Commerce's practice to rescind an administrative review of an antidumping duty order where it concludes that there were no suspended entries of subject merchandise during the POR.¹³ Normally, upon completion of an administrative review, the suspended entries are liquidated at the antidumping duty assessment rate for the review period.¹⁴ Therefore, for an administrative review to be conducted, there must be a reviewable, suspended entry that Commerce can instruct U.S. Customs and Border Protection (CBP) to liquidate at the calculated antidumping duty assessment rate for the review period.¹⁵ Commerce notified all interested parties of its intent to rescind the instant review regarding Ilda Pack Ambalaj because there were no reviewable, suspended entries of subject merchandise from this company during the POR and invited interested parties to comment.¹⁶

¹³ See, e.g., Certain Carbon and Alloy Steel Cut-to Length Plate from the Federal Republic of Germany: Recission of Antidumping Administrative Review; 2020-2021, 88 FR 4154 (January 24, 2023).

¹⁴ See 19 CFR 351.212(b)(1).

¹⁵ See, e.g., Shanghai Sunbeauty Trading Co. v. United States, 380 F. Supp. 3d 1328, 1337 (CIT 2019), at 12 (referring to section 751(a) of the Act, the U.S. Court of International Trade held that “{w}hile the statute does not explicitly require that an entry be suspended as a prerequisite for establishing entitlement to a review, it does explicitly state the determined rate will be used as the liquidation rate for the reviewed entries. This result can only obtain if the liquidation of entries has been suspended”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

¹⁶ See Memorandum, “U.S. Customs and Border Protection Data Release,” dated January 3, 2024; see also Memorandum, “Intent to Rescind Review, in Part,” dated January 31, 2024.

No parties commented on our intent to rescind.

Therefore, in accordance with 19 CFR 351.213(d)(1) and (3), Commerce is rescinding the administrative review of ASAS and Ilda Pack Ambalaj, respectively.

Methodology

Commerce is conducting this review in accordance with sections 751(a)(1)(B) and (2) of the Tariff Act of 1930, as amended (the Act). We calculated export price and constructed export price NV in accordance with sections 772 and 773 of the Act, respectively. For a complete description of the methodology in these preliminary results, see the Preliminary Decision Memorandum. A list of topics discussed in the Preliminary Decision Memorandum is attached in the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

We preliminarily determine that the following estimated weighted-average dumping margins exist for the period November 1, 2022, through October 31, 2023:

Producer and/or exporter | Weighted- average dumping margin (percent)
Assan Single Entity | 2.34
Panda Aluminyum A.S | 7.20

Disclosure

We intend to disclose the calculations and analysis performed for these preliminary results to interested parties within five days of any public announcement or, if there is no public announcement, within five days after the date of publication of this notice in the Federal Register in accordance with 19 CFR 351.224(b).

Public Comment

Pursuant to 19 CFR 351.309(c)(1)(ii), interested parties may submit case briefs to Commerce no later than 30 days after the date of publication of this notice.¹⁷ Rebuttal briefs, limited to issues raised in the case briefs, may be filed not later than five days after the date for filing case briefs.¹⁸ Interested parties who submit case briefs or rebuttal briefs in this proceeding must submit: (1) a table of contents listing each issue; and (2) a table of authorities.¹⁹

¹⁷ See also 19 CFR 351.303 (for general filing requirements).

¹⁸ See 19 CFR 351.309(d)(1); see also Administrative Protective Order, Service, and Other Procedures in Antidumping and Countervailing Duty Proceedings, 88 FR 67069, 67077 (September 29, 2023) (APO and Service Final Rule).

¹⁹ See 19 351.309(c)(2) and (d)(2).

As provided under 19 CFR 351.309(c)(2) and (d)(2), in prior proceedings we have encouraged interested parties to provide an executive summary of their brief that should be limited to five pages total, including footnotes. In this administrative review, we instead request that interested parties provide at the beginning of their briefs a public executive summary for each issue raised in their briefs.²⁰ Further, we request that interested parties limit their public executive summary of each issue to no more than 450 words, not including citations. We intend to use the public executive summaries as the basis of the comment summaries included in the issues and decision memorandum that will accompany the final results in this administrative review. We request that interested parties include footnotes for relevant citations in the public executive summary of each issue.

²⁰ We use the term “issue” here to describe an argument that Commerce would normally address in a comment of the Issues and Decision Memorandum.

Pursuant to 19 CFR 351.310(c), interested parties who wish to request a hearing, limited to issues raised in case and rebuttal briefs, must submit a written request to the Assistant Secretary for Enforcement and Compliance via ACCESS within 30 days after the date of publication of this notice. Hearing requests should contain: (1) the party's name, address, and telephone number; (2) the number of participants and whether any participant is a foreign national; and (3) a list of issues to be discussed. Issues raised at the hearing will be limited to those raised in the case and rebuttal briefs. If a hearing request is made, parties will be notified of the date and time of the hearing.²¹ Parties should confirm the date and time of the hearing two days before the scheduled date.

²¹ See 19 CFR 351.310(d).

All submissions, including case and rebuttal briefs, as well as hearing requests, should be filed using ACCESS.²² An electronically filed document must be received successfully in its entirety by ACCESS by 5:00 p.m. Eastern Time on the established deadline. Note that Commerce has amended certain of its requirements pertaining to the service of documents in 19 CFR 351.303(f).²³

²² See 19 CFR 351.303.

²³ See APO and Service Final Rule.

Final Results of Review

Unless otherwise extended, Commerce intends to issue the final results of this administrative review, including the results of its analysis of issues raised in written briefs, no later than 120 days after the date of publication of this notice in the Federal Register, pursuant to section 751(a)(3)(A) of the Act and 19 CFR 351.213(h)(1).

Assessment Rates

Upon completion of the final results of this administrative review, pursuant to section 751(a)(2)(A) of the Act, Commerce shall determine, and CBP shall assess, antidumping duties on all appropriate entries of subject merchandise covered by this review.²⁴ If an individually examined respondent's weighted-average dumping margin is not zero or de minimis (i.e., less than 0.50 percent) in the final results of this review, we intend to calculate an importer-specific assessment rate for antidumping duties based on the ratio of the total amount of dumping calculated for each importer's examined sales and the total entered value of those same sales in accordance with 19 CFR 351.212(b)(1).²⁵ If the respondent's weighted-average dumping margin or an importer-specific assessment rate is zero or de minimis in the final results of this review, we intend to instruct CBP to liquidate the appropriate entries without regard to antidumping duties.²⁶

²⁴ See 19 CFR 351.212(b)(1).

²⁵ See Antidumping Proceedings: Calculation of the Weighted-Average Dumping Margin and Assessment Rate in Certain Antidumping Proceedings; Final Modification, 77 FR 8101, 8103 (February 14, 2012).

²⁶ Id. at 8102-03; see also 19 CFR 351.106(c)(2).

For ASAS and Ilda Pack Ambalaj, for which Commerce is rescinding this review, Commerce will instruct CBP to assess antidumping duties on all appropriate entries at a rate equal to the cash deposit of estimated antidumping duties required at the time of entry, or withdrawal from warehouse, for consumption, during the period November 1, 2022, through October 31, 2023, in accordance with 19 CFR 351.212(c)(1)(i). Commerce intends to issue assessment instructions to CBP regarding these two companies no earlier than 35 days after the date of publication of this notice in the Federal Register.

For entries of subject merchandise during the POR produced by either of the individually examined respondents for which they did not know that the merchandise was destined for the United States, we will instruct CBP to liquidate these entries at the all-others rate if there is no rate for the intermediate company(ies) involved in the transaction.²⁷

²⁷ See Antidumping and Countervailing Duty Proceedings: Assessment of Antidumping Duties, 68 FR 23954 (May 6, 2003).

The final results of this administrative review shall be the basis for the assessment of antidumping duties on entries of merchandise covered by the final results of this review and for future deposits of estimated duties, where applicable.²⁸ Commerce intends to issue assessment instructions regarding the individually examined respondents to CBP no earlier than 35 days after the date of publication of the final results of this review in the Federal Register. If a timely summons is filed at the U.S. Court of International Trade, the assessment instructions will direct CBP not to liquidate relevant entries until the time for parties to file a request for a statutory injunction has expired, i.e., within 90 days of publication.

²⁸ See section 751(a)(2)(C) of the Act.

Cash Deposit Requirements

The following cash deposit requirements will be effective upon publication in the Federal Register of the notice of the final results of this administrative review for all shipments of subject merchandise entered, or withdrawn from warehouse, for consumption on or after the date of publication as provided in section 751(a)(2)(C) of the Act: (1) the cash deposit rate for the individually examined respondents will be equal to the weighted-average dumping margins established in the final results of this administrative review, except if the rate is less than 0.50 percent and, therefore, de minimis within the meaning of 19 CFR 351.106(c)(1), then the cash deposit rate will be zero; (2) for merchandise exported by a company not covered in this review but covered in a prior completed segment of this proceeding, the cash deposit rate will continue to be the company-specific rate published in the completed segment for the most recent period; (3) if the exporter is not a firm covered in this review, a prior review, or the investigation but the producer is, then the cash deposit rate will be the company-specific rate established in the most recently completed segment of this proceeding for the producer of the merchandise; and (4) the cash deposit rate for all other producers or exporters will continue to be 1.95 percent, the all-others rate established in the investigation, adjusted for the export-subsidy rate in the companion countervailing duty investigation.²⁹ These cash deposit requirements, when imposed, shall remain in effect until further notice.

²⁹ See Order, 86 FR 62792.

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of countervailing duties.

Notification to Interested Parties

We are issuing and publishing these preliminary results in accordance with sections 751(a)(1) and 777(i)(1) of the Act, and 19 CFR 351.213(d)(1) and (3), 19 CFR 351.213(h)(2), and 19 CFR 351.221(b)(4).

Dated: December 6, 2024.
Abdelali Elouaradia,
Deputy Assistant Secretary for Enforcement and Compliance.

Appendix—List of Topics Discussed in the Preliminary Decision Memorandum

I. Summary

II. Background

III. Scope of the Order

IV. Discussion of the Methodology

V. Currency Conversion

VI. Recommendation

[FR Doc. 2024-29329 Filed 12-12-24; 8:45 am]

BILLING CODE 3510-DS-P